DEPARTMENT OF AGRICULTURE

Forest Service

Mt. Hood and Willamette National Forests, Oregon; Cascade Crossing Transmission Project

AGENCY: Forest Service, USDA.

ACTION: Notice of intent to prepare an environmental impact statement.

SUMMARY: Portland General Electric (PGE), an independent investor-owned utility regulated by the Oregon Public Utility Commission, is proposing to construct, maintain, and operate a new electric transmission system consisting of approximately 210 miles of single- and double-circuit 500 kilovolt (kV) transmission line from Boardman, Oregon to near Salem, Oregon. The proposed transmission line would cross Federal, Tribal, State, municipal, and private lands. Approximately 42 percent of the lands the transmission line would cross are administered by Federal agencies, including the Forest Service, Bureau of Land Management, Department of Defense, U.S. Army Corps of Engineers, and Bureau of Reclamation.

DATES: Comments concerning the scope of the analysis must be received by August 2, 2010. The draft environmental impact statement is expected August, 2011 and the final environmental impact statement is expected February, 2012.

ADDRESSES: Send written comments to Cascade Crossing Transmission Line Project; 1515 SW Fifth Avenue, Suite 1022, Portland, OR 97201-5449. Comments may also be sent via e-mail to Comments@CascadeCrossingProject.com or via facsimile to (888) 291-6460. The project Web site is located at http://www.CascadeCrossingProject.com.

It is important that reviewers provide their comments at such times and in such a way that they are useful to the Agency's preparation of the ETS. Therefore, comments should be provided prior to the close of the comment period and should clearly articulate the reviewer's concerns and contentions.

Comments received in response to this solicitation, including names and addresses of those who comment, will be part of the public record for this proposed action. Comments submitted anonymously will be accepted and considered, however.

FOR FURTHER INFORMATION CONTACT: Kristy Boscheinen at (503) 668-1645, by e-mail at kboscheinen@fs.fed.us, or by postal mail at 16400 Champion Way, Sandy, OR 97055.

Individuals who use telecommunication devices for the deaf (TDD) may call the Federal Information Relay Service (FIRS) at 1-800-877-8339 between 8 a.m. and 8 p.m., Eastern Time, Monday through Friday.

SUPPLEMENTARY INFORMATION:

Purpose and Need for Action

On January 20, 2010, Portland General Electric (PGE) submitted an application for a special use permit to construct, operate, and maintain a 500kv transmission line across Forest Service-managed lands. On January 20, 2010 PGE also submitted an application for right of-way across BLM-managed lands. Under Section 501 of the Federal Land Policy and Management Act of 1976, there is a need for the Federal agencies to respond to applications for special use permits for rights-of-way.

PGE's purposes for proposing this transmission line are to relieve congestion on the present electric grid, provide additional capacity for transmission (including power generated from future renewable energy projects), and alleviate reliability constraints. Also, PGE believes this project would help respond to the State of Oregon's Renewable Portfolio Standard, which requires that the largest utilities and electricity service suppliers provide 15 percent of their power with renewable energy by 2015, 20 percent by 2020, and 25 percent by 2025. Finally, PGE believes there will be an increase in demand for electricity in the future in its service area, and that this line would meet that demand.

Proposed Action

PGE is proposing to construct, maintain, and operate a new electric transmission system consisting of approximately 210 miles of single- and double-circuit 500kV transmission line from Boardman, Oregon to near Salem, Oregon. The proposed transmission line would cross Federal, Tribal, State, municipal, and private lands. Approximately 42 percent of the lands the proposed line would cross are administered by Federal agencies including the Forest Service, Bureau of Land Management, Department of Defense, U.S. Army Corps of Engineers, Bureau of Reclamation, and Bureau of Indian Affairs.

In addition to the 210-mile transmission line, PGE has also proposed the construction of three new substations, expansion of two existing substations, fiber optic signal regeneration stations associated with the “smart” grid communication system, and permanent roads which would be used to access the substations, regeneration stations, and transmission line towers. As proposed, the right-of-way for the new transmission line would be 250 feet wide. 176 miles of the new line would be immediately adjacent to existing transmission lines. The Cascade Crossing Transmission Project is independent of any particular new generation project, and no new generation sources are proposed as part of this project. PGE is proposing to acquire the necessary approvals, rights-of-way, easements and permits in order to have the transmission line in service (transmitting electricity) by 2015.

Possible Alternatives

Two alternate routes have been preliminarily identified, but it has not been determined if the alternate routes will be considered as alternatives during the environmental analysis. One alternate route would follow the Westwide Energy Corridor as it crossed National Forest lands, then follow the existing Bonneville Power Administration (BPA) transmission lines through National Forest lands. The second alternative would follow the existing BPA transmission lines through the Confederated Tribes of Warm Springs Reservation and then through National Forest lands. Scoping will determine if the preliminarily identified alternate routes will be analyzed in detail or if they will be dropped from consideration. Scoping may also identify additional routes that may be considered as alternatives.

Lead and Cooperating Agencies

The Forest Service is the lead Federal agency for the Cascade Crossing Transmission Project, pursuant to the October 2009 Memorandum of Understanding Among the U.S. Department of Agriculture, Department of Commerce, Department of Defense, Department of Energy, Environmental Protection Agency, the Council on Environmental Quality, the Federal Energy Regulatory Commission, the Advisory Council on Historic Preservation, and the Department of the Interior, Regarding Coordination in Federal Agency Review of Electric Transmission Facilities on Federal Land. The Bureau of Land Management and the Oregon Department of Energy are cooperating agencies. The Forest Service has identified the Department of Defense, U.S. Army Corps of Engineers, and Bureau of Reclamation as additional potential cooperating agencies.

Responsible Official

The responsible official is Gary L. Larsen, Forest Supervisor, Mt. Hood National Forest.

Nature of Decision To Be Made

The Forest Service will sign a Record of Decision in cooperation with the other Federal land management agencies once the environmental analysis has been completed. The decision will be whether or not to issue a Special Use Permit and Right-of-way Grant to construct, operate, and maintain the Cascade Crossing Transmission Line across Federal lands. The decision will be subject to appeal under Forest Service appeal procedures at 36 CFR 215.

Authorization of this proposal may require amendments to one or more Forest Service or BLM land use plans. By this notice, the Forest Service is complying with the optional appeal procedures of plan amendments under transition procedures of 36 CFR 219.35(b)(2000) and BLM is complying with requirements in 43 CFR 1610.2(c) to notify the public of potential amendments to land use plans. If a Forest Plan Amendment or a Resource Management Plan Amendment is necessary, USFS and BLM will integrate the land use planning process with the NEPA analysis process for this project.

The Energy Facility Siting Council (EFSC) has received notice from PGE that PGE intends to apply for a Site Certificate. Oregon Department of Energy (ODOE), as staff for EFSC, will analyze the application and will provide information to EFSC to determine whether the project meets the State standards required in order to issue a Site Certificate for the line to be constructed, operated, and maintained.

Scoping Process

This notice of intent initiates the scoping process, which guides the development of the environmental impact statement. Five public scoping meetings will be held at the following locations, dates, and times:

Date and time | Location
Monday, June 21 4-7 p.m | Maupin, South Wasco County High School, 699 4th St.
Wednesday, June 23 4-7 p.m | Oregon City, Oregon City High School, 19761 S. Beavercreek Rd.
Thursday, June 24 4-7 p.m | Salem, McKay High School, 2440 Lancaster Dr., NE.
Tuesday, June 29 4-7 p.m | Mill City, Mill City Middle School, 450 SW. Evergreen
Thursday, July 1 4-7 p.m | Boardman, Port of Morrow County, 2 Marine Dr.

The scoping process will be conducted jointly with ODOE in order to reduce duplication with comparable State procedures.

It is important that reviewers provide their comments at such times and in such manner that they are useful to the agency's preparation of the environmental impact statement. Therefore, comments should be provided prior to the close of the comment period and should clearly articulate the reviewer's concerns and contentions.

Dated: May 17, 2010.
Gary L. Larsen,
Forest Supervisor.

[FR Doc. 2010-12920 Filed 5-28-10; 8:45 am]

BILLING CODE 3410-11-M